DEPARTMENT OF ENERGY

Federal Energy Regulatory Commission

Combined Notice of Filings #1

Take notice that the Commission received the following electric corporate filings:

Docket Numbers: EC22-112-000.

Applicants: Eagle Creek Renewable Energy, LLC.

Description: Application for Authorization Under Section 203 of the Federal Power Act of Eagle Creek Renewable Energy, LLC.

Filed Date: 8/22/22.

Accession Number: 20220822-5188.

Comment Date: 5 p.m. ET 9/12/22.

Take notice that the Commission received the following exempt wholesale generator filings:

Docket Numbers: EG22-210-000.

Applicants: Eight Point Wind, LLC.

Description: Eight Point Wind, LLC submits Notice of Self-Certification of Exempt Wholesale Generator Status.

Filed Date: 8/23/22.

Accession Number: 20220823-5079.

Comment Date: 5 p.m. ET 9/13/22.

Take notice that the Commission received the following electric rate filings:

Docket Numbers: ER21-762-002.

Applicants: Bishop Hill Energy II LLC.

Description: Compliance filing: Revised live Tariff Record in docket ER21-762 to be effective 3/1/2021.

Filed Date: 8/23/22.

Accession Number: 20220823-5057.

Comment Date: 5 p.m. ET 9/13/22.

Docket Numbers: ER22-1003-002.

Applicants: Southwestern Public Service Company.

Description: Refund Report: Refund Report for LPL Protocol Amendment to be effective N/A.

Filed Date: 8/23/22.

Accession Number: 20220823-5071.

Comment Date: 5 p.m. ET 9/13/22.

Docket Numbers: ER22-2701-000.

Applicants: Mechanicsville Solar, LLC.

Description: Tariff Amendment: Cancellation of Rate Schedule Tariff to be effective 8/23/2022.

Filed Date: 8/22/22.

Accession Number: 20220822-5146.

Comment Date: 5 p.m. ET 9/12/22.

Docket Numbers: ER22-2702-000.

Applicants: Arizona Public Service Company.

Description: § 205(d) Rate Filing: Service Agreement Nos. 218 and 335 to be effective 10/22/2022.

Filed Date: 8/22/22.

Accession Number: 20220822-5160.

Comment Date: 5 p.m. ET 9/12/22.

Docket Numbers: ER22-2703-000.

Applicants: Pattern Energy Management Services LLC.

Description: Baseline eTariff Filing: Application for MBR Authorization and Waivers to be effective 8/24/2022.

Filed Date: 8/23/22.

Accession Number: 20220823-5040.

Comment Date: 5 p.m. ET 9/13/22.

Docket Numbers: ER22-2704-000.

Applicants: Pacific Gas and Electric Company.

Description: § 205(d) Rate Filing: Amendment to CCSF IA (TO SA 284) to be effective 10/23/2022.

Filed Date: 8/23/22.

Accession Number: 20220823-5067.

Comment Date: 5 p.m. ET 9/13/22.

Docket Numbers: ER22-2705-000.

Applicants: PJM Interconnection, L.L.C.

Description: § 205(d) Rate Filing: Rev to OA, Sch. 12 & RAA, Sch. 17 RE 2nd Quarter 2022 Membership Lists to be effective 6/30/2022.

Filed Date: 8/23/22.

Accession Number: 20220823-5068.

Comment Date: 5 p.m. ET 9/13/22.

Docket Numbers: ER22-2706-000.

Applicants: Eight Point Wind, LLC.

Description: Baseline eTariff Filing: Eight Point Wind, LLC Application for Market-Based Rate Authorization to be effective 10/23/2022.

Filed Date: 8/23/22.

Accession Number: 20220823-5078.

Comment Date: 5 p.m. ET 9/13/22.

Take notice that the Commission received the following electric securities filings:

Docket Numbers: Docket Numbers: ES22-62-000.

Applicants: The Narragansett Electric Company.

Description: Application Under Section 204 of the Federal Power Act for Authorization to Issue Securities of The Narragansett Electric Company.

Filed Date: 8/22/22.

Accession Number: 20220822-5187.

Comment Date: 5 p.m. ET 9/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2022.
Kimberly D. Bose,
Secretary.

[FR Doc. 2022-18562 Filed 8-26-22; 8:45 am]

BILLING CODE 6717-01-P